DEPARTMENT OF AGRICULTURE

Animal and Plant Health Inspection Service

7 CFR Part 301

[Docket No. APHIS-2011-0074]

Karnal Bunt; Regulated Areas in California

AGENCY: Animal and Plant Health Inspection Service, USDA.

ACTION: Affirmation of interim rule as final rule.

SUMMARY: We are adopting as a final rule, without change, an interim rule that amended the Karnal bunt regulations to make changes to the list of areas or fields regulated because of Karnal bunt, a fungal disease of wheat. Specifically, we removed areas and fields in Riverside County, CA, from the list of regulated areas based on our determination that those fields or areas meet our criteria for release from regulation. The interim rule was necessary to relieve restrictions on certain areas that were no longer necessary.

DATES: Effective on April 13, 2012, we are adopting as a final rule the interim rule published at 76 FR 72081-72082 on November 22, 2011.

FOR FURTHER INFORMATION CONTACT: Ms. Lynn Evans-Goldner, Karnal Bunt Program Manager, Forest Pest and Plant Pathogen Programs, EDP, PPQ, APHIS, 4700 River Road, Unit 26, Riverdale, MD 20737-1236; (301) 851-2286.

SUPPLEMENTARY INFORMATION:

Background

In an interim rule ¹ effective and published on November 22, 2011, in the Federal Register (76 FR 72081-72082, Docket No. APHIS-2011-0074), we amended the Karnal bunt regulations in 7 CFR part 301 by removing areas and fields in Riverside County, CA, from the list of regulated areas in § 301.89-3(f). That action relieved restrictions that were no longer necessary on the interstate movement of regulated articles from this area.

¹ To view the interim rule and the comment we received, go to http://www.regulations.gov/#!docketDetail;D=APHIS-2011-0074.

Comments on the interim rule were required to be received on or before January 23, 2012. We received one comment by that date. The comment, from a private citizen, supported the interim rule. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as final, without change, the interim rule that amended 7 CFR part 301 and that was published at 76 FR 72081 on November 22, 2011.

Done in Washington, DC, this 9th day of April 2012.
Kevin Shea,
Acting Administrator, Animal and Plant Health Inspection Service.

[FR Doc. 2012-8914 Filed 4-12-12; 8:45 am]

BILLING CODE 3410-34-P